DEPARTMENT OF HEALTH AND HUMAN SERVICES

45 CFR Part 155

Exchange Establishment Standards and Other Related Standards Under the Affordable Care Act

CFR Correction

This rule is being published by the Office of the Federal Register to correct an editorial or technical error that appeared in the most recent annual revision of the Code of Federal Regulations.

In Title 45 of the Code of Federal Regulations, Parts 140 to 199, revised as of October 1, 2024, in section 155.420, redesignate paragraphs (a)(4)(i)(A) through (D) as (a)(4)(ii)(A) through (D).

[FR Doc. 2025-02715 Filed 2-13-25; 8:45 am]

BILLING CODE 0099-10-D